DEPARTMENT OF HOMELAND SECURITY

Coast Guard

33 CFR Part 100

[Docket No. USCG-2024-0763]

Special Local Regulation; Sarasota Powerboat Grand Prix; Gulf of Mexico

AGENCY: Coast Guard, DHS.

ACTION: Notification of enforcement of regulation.

SUMMARY: The Coast Guard will enforce a special local regulation for the Sarasota Powerboat Grand Prix race from September 13 through 15, 2024, to provide for the safety of life on navigable waters during this event. Our regulation for marine events within the Captain of the Port St. Petersburg identifies the regulated area for this event in Gulf of Mexico, in the vicinity of Lido Beach, FL. During the enforcement period, no person or vessel may enter, transit through, anchor in, or remain within the designated area unless authorized by the Captain of the Port St. Petersburg or a designated representative.

DATES: The regulations in 33 CFR 100.703 will be enforced from 8 a.m. through 6 p.m., from September 13-15, 2024, for the regulated area listed in Item 4 of Table 1 to § 100.703.

FOR FURTHER INFORMATION CONTACT: If you have questions about this notification of enforcement, call or email Marine Science Technician First Class Mara Brown, Sector St. Petersburg Prevention Department, Coast Guard; telephone 813-228-2191, email: Mara.J.Brown@uscg.mil.

SUPPLEMENTARY INFORMATION: The Coast Guard will enforce the special local regulations in 33 CFR 100.703 for the Sarasota Powerboat Grand Prix/Powerboat P-1 USA race regulated area identified in Table 1 to § 100.703, Item No. 4 from 8 a.m. through 6 p.m., from September 13-15, 2024. This action is being taken to provide for the safety of life on navigable waterways during this event. Our regulation for recurring marine events, Sector St. Petersburg, § 100.703, Table 1 to § 100.703, Item No. 4, specifies the location of the regulated area for the Sarasota Powerboat Grand Prix/Powerboat P-1 USA which encompasses portions of the Gulf of Mexico near Lido Beach, FL. Under the provisions of § 100.703(c), if you are the operator of a vessel in the regulated area you must comply with directions from the Patrol Commander or any designated representative.

In addition to this notice of enforcement in the Federal Register, the Coast Guard will provide notification of this enforcement period via the Local Notice to Mariners and marine information broadcasts.

Dated: August 26, 2024.
Michael P. Kahle,
Captain, U.S. Coast Guard, Captain of the Port St. Petersburg.

[FR Doc. 2024-19833 Filed 9-3-24; 8:45 am]

BILLING CODE 9110-04-P